DEPARTMENT OF TRANSPORTATION

Federal Highway Administration

Environmental Impact Statement: Spotsylvania County, VA

AGENCY: Federal Highway Administration, DOT.

ACTION: Notice of intent.

SUMMARY: The Federal Highway Administration (FHWA) is issuing this notice to advise the public of its intent to prepare an Environmental Impact Statement in cooperation with the Virginia Department of Transportation (VDOT) for the Spotsylvania Parkway Location Study in Spotsylvania County.

FOR FURTHER INFORMATION CONTACT: John Simkins, Environmental Protection Specialist, Federal Highway Administration, Post Office Box 10249, Richmond, Virginia 23240-0249, Telephone 804-775-3342.

SUPPLEMENTARY INFORMATION: The Federal Highway Administration (FHWA), in cooperation with the Virginia Department of Transportation (VDOT), will prepare an environmental impact statement (EIS) for the Spotsylvania Parkway Location Study. The study area is located in northeastern Spotsylvania County, southwest of the City of Fredericksburg. The study window is roughly defined by the Ni River, State Route 3 to the north, and Interstate 95 to the east.

Recognizing that the National Environmental Policy Act (NEPA) process requires the consideration of a reasonable range of alternatives that will address the purpose and need, the EIS will consider a range of alternatives for detailed study. These consist of a no-build alternative as well as alternatives consisting of transportation system management strategies, mass transit, improvements to existing facilities, and new alignment facilities. The alternatives will be developed, screened, and carried forward for detailed analysis in the draft EIS based on the ability to address the purpose and need.

The FHWA and VDOT are seeking input as part of the scoping process to assist in determining and clarifying issues relative to the project. Letters describing the proposed study and soliciting input have been sent to the appropriate Federal, State, and local agencies who have expressed an interest or are known to have an interest or legal role in the proposal. A Citizen Information Meeting was held in July 2002 to provide organizations, citizens, and interest groups an opportunity to provide input into the development of the EIS and identify issues that should be addressed. No formal scoping meeting is planned at this time.

A public hearing will be held upon completion of the draft EIS. Notices of the public hearing will be given through various forums providing the time and place of the hearing along with other relevant information. The draft EIS will be available for public and agency review and comment prior to the public hearing.

To ensure that the full range of issues related to this proposed action are identified and taken into account, comments and input are invited from all interested parties. Comments and questions concerning the proposed action and draft EIS should be directed to FHWA at the address provided above.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: November 7, 2002.
John Simkins,
Environmental Protection Specialist.

[FR Doc. 02-28955 Filed 11-14-02; 8:45 am]

BILLING CODE 4910-22-M